DEPARTMENT OF EDUCATION

Extension of the Application Deadline Date; Applications for New Awards; Rehabilitation Long-Term Training Program—Vocational Rehabilitation Counseling

AGENCY: Office of Special Education and Rehabilitative Services, Department of Education.

ACTION: Notice.

SUMMARY: On March 30, 2020, the Department of Education (Department) published in the Federal Register (85 FR 17548) a notice inviting applications (NIA) for the fiscal year (FY) 2020 Rehabilitation Long-Term Training program—Vocational Rehabilitation Counseling competition, Catalog of Federal Domestic Assistance (CFDA) number 84.129B. The NIA established a deadline date of May 14, 2020, for the transmittal of applications. This notice extends the deadline date for transmittal of applications until June 15, 2020 at 11:59 p.m. and extends the date of intergovernmental review until August 14, 2020.

DATES:

Deadline for Transmittal of Applications: June 15, 2020.

Deadline for Intergovernmental Review: August 14, 2020.

FOR FURTHER INFORMATION CONTACT: Diandrea Bailey, Ph.D., U.S. Department of Education, 400 Maryland Avenue SW, Room 5065A, Potomac Center Plaza, Washington, DC 20202-2800. Telephone: (202) 245-6244. Email: 84.129B@ed.gov.

If you use a telecommunications device for the deaf (TDD) or a text telephone (TTY), call the Federal Relay Service (FRS), toll free, at 1-800-877-8339.

SUPPLEMENTARY INFORMATION: On March 30, 2020, we published the NIA for the FY 2020 Rehabilitation Long-Term Training program—Vocational Rehabilitation Counseling competition in the Federal Register (85 FR 17548) available at https://www.federalregister.gov/documents/2020/03/30/2020-06535/applications-for-new-awards-rehabilitation-long-term-training-program-vocational-rehabilitation. We are extending the deadline date for transmittal of applications in order to allow applicants more time to prepare and submit their applications. This extension reflects serious consideration of the adverse effect the COVID-19 pandemic has had on potential applicants.

Note: All information in the NIA for this competition remains the same, except for the deadline for the transmittal of applications and the deadline for intergovernmental review.

Note: Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

Program Authority: 29 U.S.C. 772.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-10260 Filed 5-12-20; 8:45 am]

BILLING CODE 4000-01-P